DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Business and Professional Classification Report.

Form Number(s): SQ-CLASS.

Agency Approval Number: 0607-0189.

Type of Request: Revision of a currently approved collection.

Burden: 9,448.

Number of Respondents: 43,600.

Avg Hours Per Response: 13 minutes.

Needs and Uses: The Census Bureau sponsors the SQ-CLASS, “Business and Professional Classification Report,” to collect information needed to keep the retail, wholesale, and service samples current with the business universe. Because of rapid changes in the marketplace caused by the emergence of new businesses, the death of others, and changes in company organization, the Census Bureau canvasses by mail a sample of new Employer Identification Numbers (EINs) obtained from the Internal Revenue Service (IRS) and the Social Security Administration (SSA). Each firm selected in this sample is canvassed once for data on the establishment(s) associated with the new EIN. From the perspective of the business firms, this is a one-time collection of data on newly assigned EINs. A different sample of EINs is canvassed four times a year.

We plan to revise the SQ-CLASS form to improve the assignment of kind-of-business codes based on the new North American Industry Classification System (NAICS). Questions have been rearranged on the form to improve the flow. One question has been removed and respondents are asked to provide two additional percentages. We do not expect these inquiries to increase burden.

The completed SQ-CLASS form provides sales, receipts or revenue, company organization, new or refined NAICS codes, and other key information needed for sampling to maintain proper coverage of the universe. Based on the collected information, EINs meeting the criteria for inclusion in the Bureau's retail, wholesale, or service surveys are subjected to a second sampling. The retail and wholesale EINs selected in this second sampling are placed on a panel to report in our monthly surveys. An additional panel of selected units are included in the annual surveys. The selected service cases report on an annual basis.

Affected Public: Businesses or other for-profit, Not-for-profit institutions.

Frequency: One time only.

Respondent's Obligation: Voluntary.

Legal Authority: Title 13 U.S.C., Section 182.

OMB Desk Officer: Susan Schechter, (202) 395-5103.

Copies of the above information collection proposal can be obtained by calling or writing Madeleine Clayton, Departmental Paperwork Clearance Officer, (202) 482-3129, Department of Commerce, room 6608, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: July 11, 2002.
Madeleine Clayton,
Departmental Paperwork Clearance Officer, Office of the Chief Information Officer.

[FR Doc. 02-17894 Filed 7-15-02; 8:45 am]

BILLING CODE 3510-07-P